DEPARTMENT OF AGRICULTURE

Food and Nutrition Service

Child Nutrition Programs: Income Eligibility Guidelines

Correction

In notice document 2024-03355, beginning on page 12812, in the of Tuesday, February 20, 2024, the table appearing on pages 12813-12815 is corrected as set forth below:

[FR Doc. C1-2024-03355 Filed 2-27-24; 8:45 am]

BILLING CODE 0099-10-D